ENVIRONMENTAL PROTECTION AGENCY

[EPA-HQ-OAR-2003-0078; FRL-8574-8]

Agency Information Collection Activities: Proposed Collection; Comment Request; Reporting Under EPA's Landfill Methane Outreach Program—EPA ICR No. 1849.03

AGENCY: Environmental Protection Agency (EPA).

ACTION: Notice.

SUMMARY: In compliance with the Paperwork Reduction Act (PRA) (44 U.S.C. 3501 et seq.), this document announces that EPA is planning to submit a request to reinstate a previously approved Information Collection Request (ICR) to the Office of Management and Budget (OMB). The previously approved ICR expired on 07/31/2007.

DATES: Comments must be submitted on or before August 4, 2008.

ADDRESSES: Submit your comments, identified by Docket ID No. EPA-HQ-OAR-2003-0078 by one of the following methods: http://www.regulations.gov: Follow the online instructions for submitting comments. E-mail: a-and-r-Docket@epa.gov. Fax Number: 202-566-9744. Phone Number: 202-566-1742. Mail: Docket ID No. EPA-HQ-OAR-2003-0078, Environmental Protection Agency, Mailcode: 2822T, 1200 Pennsylvania Ave., NW., Washington, DC 20460. Hand Delivery: EPA Docket Center, 1301 Constitution Ave., NW., Room 3334, Washington, DC 20460 (Attention Docket ID No. EPA-HQ-OAR-2003-0078). Such deliveries are only accepted during the Docket's normal hours of operation, and special arrangements should be made for deliveries of boxed information.

Instructions: Direct your comments to Docket ID No. EPA-HQ-OAR-2003-0078. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

FOR FURTHER INFORMATION CONTACT: Victoria Ludwig, Climate Change Division, Office of Atmospheric Programs, 6207J, Environmental Protection Agency, 1200 Pennsylvania Avenue, NW., Washington, DC 20460; telephone number: (202) 343-9291; fax number: (202) 343-2202; e-mail address ludwig.victoria@epa.gov.

SUPPLEMENTARY INFORMATION:

How Can I Access the Docket and/or Submit Comments?

EPA has established a public docket for this ICR under Docket ID No. EPA-HQ-OAR-2003-0078, which is available for online viewing at http://www.regulations.gov, or in person viewing at the Air and Radiation Docket in the EPA Docket Center (EPA/DC), EPA West, Room 3334, 1301 Constitution Ave., NW., Washington, DC. The EPA/DC Public Reading Room is open from 8 a.m. to 4:30 p.m., Monday through Friday, excluding legal holidays. The telephone number for the Reading Room is 202-566-1744, and the telephone number for the Air and Radiation Docket is 202-566-1742. Use http://www.regulations.gov to obtain a copy of the previously approved Information Collection Request EPA ICR No. 1849.03, submit or view public comments, access the index listing of the contents of the docket, and to access those documents in the public docket that are available electronically. Once in the system, select “search,” then key in the docket ID number identified in this document.

What Information Is EPA Particularly Interested in?

Pursuant to section 3506(c)(2)(A) of the PRA, EPA specifically solicits comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

What Should I Consider When I Prepare My Comments for EPA?

You may find the following suggestions helpful for preparing your comments:

(1) Explain your views as clearly as possible and provide specific examples.

(2) Describe any assumptions that you used.

(3) Provide copies of any technical information and/or data you used that support your views.

(4) If you estimate potential burden or costs, explain how you arrived at the estimate that you provide.

(5) Offer alternative ways to improve the collection activity.

(6) Make sure to submit your comments by the deadline identified under DATES.

(7) To ensure proper receipt by EPA, be sure to identify the docket ID number assigned to this action in the subject line on the first page of your response. You may also provide the name, date, and Federal Register citation.

What Information Collection Activity or ICR Does This Apply to?

Affected entities: Entities potentially affected by this action are those private companies and municipalities that own or operate landfills; State agencies; manufacturers and suppliers of equipment/knowledge to capture and utilize landfill gas; utility companies; end users of energy from the landfill; and other landfill gas energy stakeholders.

Title: Reporting Under EPA's Landfill Methane Outreach Program.

ICR numbers: EPA ICR No. 1849.03, OMB Control No. 2060-0446.

ICR status: This ICR expired on 07/31/2007. The EPA is reinstating a previously approved ICR. An Agency may not conduct or sponsor, and a person is not required to respond to, a collection of information, unless it displays a currently valid OMB control number. The OMB control numbers for EPA's regulations in Title 40 of the CFR, after appearing in the Federal Register when approved, are listed in 40 CFR part 9, and are displayed either by publication in the Federal Register or by other appropriate means, such as on the related collection instrument or form, if applicable. The display of OMB control numbers in certain EPA regulations is consolidated in 40 CFR part 9.

Abstract: The Landfill Methane Outreach Program (LMOP), created by EPA as part of the Climate Change Action Plan, is a voluntary program designed to encourage and facilitate the development of environmentally and economically sound landfill gas (LFG) energy projects across the United States in order to reduce methane emissions from landfills. LMOP does this by educating local governments and communities about the benefits of LFG recovery and use; building partnerships between state agencies, industry, energy service providers, local communities, and other stakeholders interested in developing this valuable resource in their community; and providing tools to evaluate LFG energy (LFGE) potential. LMOP signs voluntary Memoranda of Understanding (MOU) with these organizations to enlist their support in promoting cost-effective LFG utilization. The information collection includes completion and submission of the MOU, and annual completion and submission of information forms that include basic information on landfill methane projects with which the organizations are involved. The information collection also includes a one-time effort to update the LMOP Landfill and Landfill Gas Energy Project Database. The information collection is to be utilized to maintain up-to-date data and information about LMOP Partners and landfill methane projects with which they are involved. The data will also be used by the public to assess LFGE project development opportunities in the United States. In addition, the information collection will assist LMOP in evaluating the reduction of methane emissions from landfills. Responses to the information collection are voluntary.

Burden Statement: The annual public reporting and recordkeeping burden for this collection of information is estimated to average 4.7 hours for each respondent. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR provides a detailed explanation of the Agency's estimate, which is only briefly summarized in this notice. The LMOP information collection is expected to involve an average of 832 existing Partners and an additional 114 new Partners per year. In order to meet the needs of public requests for data and to assess the potential of future LFGE opportunities, there is a planned one-time information collection for 1,000 additional landfill owners and operators. The average annual burden (rounded to one decimal place) and cost per respondent is estimated to be 4.7 hours and $273. The total annual reporting and recordkeeping burden averaged over three years is 5,885 hours and $344,827. This includes an estimated burden cost of $343,485 and an estimated cost of $1,342 for maintenance and operational costs.

Are There Changes in the Estimates From the Last Approval?

There is an increase of 1,257 hours in the total estimated annual respondent burden compared with that identified in the ICR previously approved by OMB. This increase reflects a large growth in the number of LMOP Partners since the last renewal. Since the last ICR renewal, LMOP no longer collects information annually from Energy, State, and non-developer Industry Partners, the information forms have been simplified into pre-populated spreadsheets, and other collection efficiencies have been implemented such as the option to submit MOUs electronically. As a result of these changes, the average number of hours per Partner has decreased, but the total hourly burden for LMOP Partners still increased because of an increase in the number of Partners. For perspective on the magnitude of Partner growth, there were 365 Partners at the end of 2003 when the ICR was last renewed, whereas there were 675 Partners as of July 2007. This indicates an 85% increase in Partners since the last renewal. The remainder of the increase in total hourly burden comes from a planned initiative to collect critical landfill data from 1,000 additional landfill owners and operators. These data are necessary in order to better respond to public data requests and evaluate the potential of future LFGE opportunities. This type of data collection has not occurred before during LMOP's history. This change is the result of a program change.

What Is the Next Step in the Process for This ICR?

EPA will consider the comments received and amend the ICR as appropriate. The final ICR package will then be submitted to OMB for review and approval pursuant to 5 CFR 1320.12. At that time, EPA will issue another Federal Register notice pursuant to 5 CFR 1320.5(a)(1)(iv) to announce the submission of the ICR to OMB and the opportunity to submit additional comments to OMB. If you have any questions about this ICR or the approval process, please contact the technical person listed under FOR FURTHER INFORMATION CONTACT.

Dated: May 6, 2008.
Dina Kruger,
Director, Climate Change Division.

[FR Doc. E8-12371 Filed 6-2-08; 8:45 am]

BILLING CODE 6560-50-P